FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Charity Cargo, LLC, 1140 Kam IV Road, Honolulu, HI 96819, Officers: Esteven Ganal, Member (Qualifying Individual), Jessie Luga, Member,

Midwest Consolidators International, Inc.dba Midwest Maritime, 1001 LaBore Industrial Court, Suite A, Vadnais Heights, MN 55101, James W. Fligge, President (Qualifying Individual), Debora A. Graves, Vice President,

TSL International, Inc., 138 Bay 14 Street, Brooklyn, NY 11214, Officer: Susan Lee, President (Qualifying Individual),

ACS Logistics, Inc., 5005 West Royal Lane, Suite 198, Irving, TX 75063, Officer: George S. Jernigan, Int'l. Opera. Specialist (Qualifying Individual),

Shine International Transportation (LA) Corp.,2001 Santa Anita Avenue, Suite 203A,South El Monte, CA 91733,Officer:Jacky Li, President(Qualifying Individual),

Aprile USA, Inc.,1370 Broadway, Suite 1006,New York, NY 10018,Officer:Anna Cilento, Import-Export Coordinator(Qualifying Individual).

Non-Vessel Operating Common Carrier and Ocean Freight Forwarder Transportation Intermediary Applicants

NMT USA, Inc.,4615 Gulf Boulevard, Suite 116,Saint Petersburg, FL 33706,Officers:Kevin J. Skooglund, Secretary(Qualifying Individual),Joseph P. Schulte, President,

Daleray Corporation,3350 SW 3 Avenue, Suite 207,Fort Lauderdale, FL 33315,Officers:William R. Fulford, Vice President(Qualifying Individual),Dale Kloss, President,

Fracht FWO, Inc. dba Helvetia Container Line,29 W. 30th Street, 12th Floor,New York, NY 10001,Officer:Werner Seyfried, Vice President(Qualifying Individual),

United Logistics Corp.,3650 Mansell Road, Suite 400,Alpharetta, GA 30022,Officer:Kieutien Nguyen, Secretary(Qualifying Individual),

Pacific Atlantic Lines Georgia, Inc.,15 Royal Drive, Suite A,Forest Park, GA 30297,Officer:Amadu K. Jah, President(Qualifying Individual),

Cargotech, LLC,400 South Avenue,Middlesex, NJ 08846,Officer:Richard Wayne Robinson, President(Qualifying Individual),

Danzas Corporation dba DHL Global Forwarding,Danmar Lines Ltd; DHL Danzas Air & Ocean,Officer:Cas Pouderoven, Vice President(Qualifying Individual),

AES Logistics, Inc. dba AES Worldwide dba AES Logistics,140 SW 153rd Street,Burien, WA 98166,Officer:Robert A. Schwieger, Vice President(Qualifying Individual),

Costex Corporation dba CTP Logistics,6100 N.W. 77th Court,Miami, FL 33166,Officers:Jorge Espinoza, Secretary(Qualifying Individual),Gilberto Uribe, President.

Ocean Freight Forwarder—Ocean Transportation Intermediary Applicants

Prologistics, Inc.,9715 Carnegie Avenue,El Paso, TX 79925,Officers:Carol A. Runnels, President(Qualifying Individual),James S. Runnels, Vice President,

ASL Global Logistics,15836 Lee Road,Houston, TX 77032,Officers:Nidal Younes, Logistics Manager(Qualifying Individual),Wassim A. Agha, President,

AAAA Forwarding, Inc., 1661 Rainbow Drive, Clearwater, FL 33755, Officers: Dean C. Cummings, President (Qualifying Individual), Patricia A. Cummings, Corp. Secretary.

Dated: August 29, 2008.
Tanga S. FitzGibbon,
Alternate Federal Register Liaison Officer.

[FR Doc. E8-20487 Filed 9-3-08; 8:45 am]

BILLING CODE 6730-01-P